INTERNATIONAL TRADE COMMISSION

[Investigation No. 337-TA-659]

In the Matter of Certain Prepregs, Laminates, and Finished Circuit Boards; Notice of Commission Determination Not To Review an Initial Determination Granting Complainant's Motion To Withdraw the Complaint as To Guangdong Shengyi Sci. Tech Co., Ltd. and To Terminate the Investigation

AGENCY: U.S. International Trade Commission.

ACTION: Notice.

SUMMARY: Notice is hereby given that the U.S. International Trade Commission has determined not to review an initial determination (“ID”) (Order No. 11) granting complainant's motion to withdraw the complaint as to Guangdong Shengyi Sci. Tech Co., Ltd (“Shengyi”) and to terminate the investigation.

FOR FURTHER INFORMATION CONTACT: James A. Worth, Office of the General Counsel, U.S. International Trade Commission, 500 E Street, SW., Washington, DC 20436, telephone (202) 205-3065. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on November 12, 2008, based upon a complaint filed on behalf of Isola USA Corp. of Chandler, Arizona (“Isola”) on October 6, 2008, and supplemented on October 28, 2008. 73 FR 66919 (November 12, 2008). The complaint alleged violations of section 337 of the Tariff Act of 1930 (19 U.S.C. 1337) in the importation into the United States, the sale for importation, and the sale within the United States after importation of certain prepregs, laminates, and finished circuit boards that infringe certain claims of United States Patent Nos. 6,187,852; 6,322,885; and 6,509,414 (“the `414 patent”). The notice of investigation named seven firms as respondents.

On December 22, 2008, the Commission issued notice of its determinations not to review IDs terminating the investigation with respect to respondents Sanmina-SCI Corp. and ITEQ Corp. based on settlement agreements. On January 9, 2009, the Commission issued notice of its determination not to review an ID terminating the investigation with respect to the `414 patent. On May 19, 2009, the Commission issued notice of its determination not to review an ID terminating the investigation as to respondents VENTEC Electronics (Suzhou) Co., Ltd., VENTEC Electronics (HK) Co., Ltd., and VENTEC-Global Laminates USA LLC based on a consent order. On April 10, 2009, the Commission issued notice of its determination not to review an ID granting a joint motion to terminate the investigation as to Taiwan Union Technology Corp. based on a consent order.

On March 12, 2009, Isola filed a motion pursuant to 19 CFR 210.21(a)(1) to terminate the investigation as to Shengyi on the basis of withdrawal of the complaint. On March 16, 2009, Shengyi filed objections to Isola's motion to withdraw. On March 18, 2009, Isola filed an opposition to the objections. On March 19, 2009, Shengyi filed a reply. Also on March 19, 2009, the Commission investigative attorney filed a response in support of Isola's motion to withdraw the complaint. On April 16, 2009, the ALJ issued the subject ID, granting Isola's motion to withdraw the complaint.

The Commission has determined not to review the subject ID.

This action is taken under the authority of section 337 of the Tariff Act of 1930, as amended (19 U.S.C. 1337), and of section 210.42(h) of the Commission's Rules of Practice and Procedure (19 CFR 210.42(h)).

Issued: May 11, 2009.
By order of the Commission.
Marilyn R. Abbott,
Secretary to the Commission.

[FR Doc. E9-11367 Filed 5-14-09; 8:45 am]

BILLING CODE 7020-02-P